DEPARTMENT OF STATE

[Public Notice 3275]

Amendment to Culturally Significant Objects Imported for Exhibition Determinations: “Spirits of the Water: Art From Alaska and British Columbia”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, I hereby determine that the objects to be included in the exhibition “Spirits of the Water: Art from Alaska and British Columbia,” imported from abroad for the temporary exhibition without profit within the United States, are of cultural significance. These objects are in addition to the subject objects of a notice concerning this exhibit published under Public Notice 3268, 65 FR 16684 (March 29, 2000) and are imported pursuant to a loan agreement with Russian lenders. I also determine that the exhibition or display of the exhibit objects at the Menil Collection, Houston, Texas, from on or about May 5, 2000 to on or about August 13, 2000 is in the national interest. Public Notice of these Determinations is ordered to be published in the Federal Register.

FOR FURTHER INFORMATION CONTACT: For further information, including a list of exhibit objects, contact Carol Epstein, Attorney-Adviser, Office of the Legal Adviser, U.S. Department of State (telephone: 202/619-6981). The address is U.S. Department of State, SA-44; 301-4th Street, SW., Room 700, Washington, DC 20547-0001.

Dated: April 12, 2000.
William B. Bader,
Assistant Secretary for Educational and Cultural Affairs, Department of State.

[FR Doc. 00-10022 Filed 4-20-00; 8:45 am]

BILLING CODE 4710-08-U